GENERAL SERVICES ADMINISTRATION

41 CFR Parts 102-117 and 102-118

[FMR Amendment D-1]

RIN 3090-AH43

Transportation Management and Transportation Payment and Audit

AGENCY: Office of Governmentwide Policy, GSA.

ACTION: Final rule.

SUMMARY: The General Services Administration (GSA) is extending the retirement date of Optional Forms 1103, U.S. Government Bill of Lading (GBL), and 1203, U.S. Government Bill of Lading—Privately Owned Personal Property (PPGBL), until March 31, 2002. A GSA review indicated that instead of transitioning to standard business practices, agencies were creating a new form to replace the GBL. Extending the retirement date for six months will give agencies more time to enhance electronic transportation systems currently in place and transition to the use commercial practices.

DATES: Effective September 21, 2001.

FOR FURTHER INFORMATION CONTACT: Elizabeth Allison, Program Analyst, Transportation Management Policy Program, Office of Governmentwide Policy, General Services Administration, by phone at 202-219-1729 or by e-mail at elizabeth.allison@gsa.gov.

SUPPLEMENTARY INFORMATION:

A. Background

GSA published Federal Management Regulation (FMR) part 102-117 (41 CFR part 102-117), Transportation Management in the Federal Register on October 6, 2000 (65 FR 60059), and FMR part 102-118 (41 CFR part 102-118), Transportation Payment and Audit, in the Federal Register on April 26, 2000 (65 FR 24568). These final rules provided for the retirement of Optional Forms 1103 and 1203, the BGL and PPGBL, respectfully for domestic use.

B. Substantive Changes

This rule extends the retirement date for Optional Forms 1103 and 1203, to March 31, 2002. Although both the GBL and the PPGBL are being retired for domestic shipments, both forms will remain available for international and domestic overseas shipments.

The government will need to transmit some type of shipping order to the transportation service provider (TSP), but not a bill of lading. The transmittal (preferably electronic) must include all information necessary for booking a shipment. In practicality these actions eliminate two government forms and transition agencies to the use of standard industry practice and electronic commerce.

C. Executive Order 12866

GSA has determined that this rule is not a significant regulatory action for the purposes of Executive Order 12866 of September 30, 1993.

D. Regulatory Flexibility Act

This rule will not have a significant economic impact on a substantial number of small entities within the meaning of the Regulatory Flexibility Act, 5 U.S.C. 601, et seq., because the rule only applies to internal agency management and will not have a significant effect on the public.

E. Paperwork Reduction Act

The Paperwork Reduction Act does not apply because this rule does not impose recordkeeping or information collection requirements, or the collection of information from contractors, or members of the public which require the approval of the Office of Management and Budget (OMB) under 44 U.S.C. 501-517.

F. Small Business Regulatory Enforcement Fairness Act

This rule is exempt from Congressional review under 5 U.S.C. 901 since it relates solely to agency management and personnel.

List of Subjects in 41 CFR Parts 102-117 and 102-118

Freight, Government property management, Moving of household goods, Transportation.

For the reasons set forth in the preamble, 41 CFR chapter 102 is amended as follows:

PART 102-117—TRANSPORTATION MANAGEMENT

1. The authority citation for part 102-117 continues to read as follows:

Authority: 31 U.S.C. 3726; 40 U.S.C. 481, et seq.

§ 102-117.90 [Amended]

2. Section 102-117.90 is amended by removing the date “September 30, 2001” wherever it appears and adding the date “March 31, 2002” in its place.

PART 102-118—TRANSPORTATION PAYMENT AND AUDIT

3. The authority citation for part 102-118 continues to read as follows:

Authority: 31 U.S.C. 3726; 40 U.S.C. 481, et seq.

§§ 102-118.40, 102-118.95, 102-118.115, and 102-118.175 [Amended]

4. Remove the date “September 30, 2001” wherever it appears and add the date “March 31, 2002” in its place in the following sections:

§ 102-118.40

§ 102-118.95

§ 102-118.115

§ 102-118.175

Dated: September 10, 2001.
Stephen A. Perry,
Administrator of General Services.

[FR Doc. 01-23725 Filed 9-21-01; 8:45 am]

BILLING CODE 6820-24-P